DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before May 24, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on April 11, 2023.
Donald P. Burger,
Chief, General Approvals and Permits Branch.

Special Permits Data—Granted
Application No. | Applicant | Regulation(s) affected | Nature of the special permits thereof
14546-M | Linde Gas & Equipment Inc | 172.203(a), 180.209(a), 180.209(b), 180.209(b)(1)(iv) | To modify the special permit to extend the initial periodic requalification period of DOT 3AL and DOT-SP 12440 cylinders from 5 years to 10 years.
16016-M | Isi Automotive Austria Gmbh | 173.301, 173.302a, 173.305 | To modify the special permit to authorize an additional manufacturing location.
20333-M | Antonov, DP | 172.101(j), 172.203(a), 172.301(c), 173.27(b)(2), 175.30(a)(1) | To modify the special permit to authorize an additional hazardous material and waive part of 49 CFR 107.109(a)(3).
20906-M | Nouryon Functional Chemicals LLC | 173.28(b)(2), 173.181 | To modify the special permit to authorize an additional packaging.
21072-M | Isotek Systems, LLC | 173.417(b)(1), 173.427(a)(3) | To modify the special permit to increase the total Uranium weight.
21114-M | Olin Winchester LLC | 172.203(a), 173.63(b)(2)(i), 173.63(b)(2)(ii) | To modify the special permit to authorize rifle cartridge sizes up to 358 Winchester, to authorize an additional packaging, and to remove the requirement to mark the special permit number on inner packages other than bags.
21114-M | Federal Cartridge Company | 172.203(a), 173.63(b)(2)(i), 173.63(b)(2)(ii), 173.63(b)(2)(iii) | To modify the special permit to authorize shotshells to be transported.
21136-M | Hanwha Cimarron LLC | 173.302(a)(1) | To modify the special permit to amend paragraph 7.d.(5) to only refer to Tests Nos. 4, 5, and 6. of ISO 1496-3.
21240-M | Volkswagen Group Of America Chattanooga Operations, LLC | 172.101(j) | To modify the special permit to authorize additional lithium ion batteries.
21316-N | Cryoconcepts, LP | 171.2(k), 172.200, 172.300, 172.400, 172.700(a) | To authorize the transportation in commerce of DOT 3AL cylinders containing carbon dioxide using alternative hazard communication. Additionally, the application requests authorization for cylinders charged to a pressure of less than 29.0 psig to be shipped as a hazardous material.
21328-N | Dragonfly Energy Corp. | 173.6(a)(1)(ii), 173.6(d) | To authorize the transportation in commerce of lithium batteries exceeding 66 pounds as materials of trade.
21333-N | Cummins Inc | 172.101(j), 173.185(b)(1) | To authorize the transportation in commerce of lithium ion batteries exceeding 35 kg by cargo-only aircraft.
21335-N | The Island Packers Corporation |  | To authorize the transportation in commerce of certain hazardous materials aboard passenger vessels.
21355-N | Lake & Peninsula Airline Inc | 172.101(j), 173.242, 173.202, 173.203, 175.310(a) | To authorize the transportation in commerce of certain flammable liquids in non-specification bulk packaging (bladders) by cargo-only aircraft.
21380-N | Tesla, Inc | 173.21(c), 173.185(b)(1), 173.185(b)(2)(iii), 173.185(b)(4)(ii) | To authorize the transportation in commerce of lithium ion batteries with a spark arrestor system
21412-N | TN Americas LLC | 173.163, 173.420 | To authorize the transportation in commerce of uranium hexafluoride in packagings not meeting the packaging requirements of ANSI N14.1
21426-N | Spaceflight, Inc | 173.185(a)(1) | To authorize the transportation in commerce of low production or prototype lithium batteries contain in equipment (spacecraft) via cargo-only aircraft.
21455-N | Huntington Ingalls Incorporated | 172.102 | To authorize the transportation in commerce of radiation detectors that have not had a leak tightness test performed in accordance with special provision 238.
21498-N | Silk Way Aviasirketi, MMC | 172.204(c)(3), 172.101(j)(1), 173.27, 175.30(a)(1) | To authorize the transportation in commerce of articles containing non-flammable, toxic gas, n.o.s. (contains ammonia, anhydrous) within the equipment
21499-N | Pollution Control Inc | 172.320, 173.56(b) | To authorize the transportation in commerce of one package for the purpose of disposal of an explosive for the that has not been examined and classified in accordance with 49 CFR 173.56(b).
21500-N | American Ecycle Inc | 173.185(f) | To authorize the transportation in commerce of damaged lithium ion batteries in alternative packaging for destruction or recycling.
21502-N | Tyco Fire Products LP | 172.203(a), 172.301(c), 173.309(c)(2) | To authorize the transportation in commerce of non-specification cylinders exceeding 900 mL in capacity and containing a liquefied compressed gas as fire extinguishers.
21520-N | Reuter-Stokes, LLC | 173.310(b) | To authorize the transportation in commerce of neutron detectors containing a Division 2.2 material that exceed the authorized pressure.
21521-N | Honda Motor Co., Ltd | 173.302(a)(1) | To authorize the transportation in commerce of non-DOT specification composite overwrapped tanks (COPVs), containing compressed hydrogen. The COPVs must be shipped with a maximum hydrogen gas pressure of 58.0 psi/0.4 MPa.
21527-N | Alltranspack, Inc | 173.185(a)(1) | To authorize the transportation in commerce of prototype lithium batteries via cargo-only aircraft.
21531-N | Environmental Restoration, LLC | 173.185(f)(1), 173.185(f)(3) | To authorize the transportation in commerce of damaged or defective lithium ion batteries for the purpose of disposal, recycling, or failure analysis.
21535-N | National Air Cargo Group, Inc | 172.101(j)(1), 173.27(b)(2), 173.27(b)(3), 175.30(a)(1) | To authorize the transportation in commerce of certain Division 1.1, 1.2, 1.3 and 1.4 explosives which are forbidden or exceed quantities authorized for transportation by cargo-only aircraft.
21537-N | Astro Digital US Inc | 173.185(a)(1) | To authorize the transportation in commerce of prototype and low production lithium ion batteries contained in equipment (spacecraft).

Special Permits Data—Denied
Application No. | Applicant | Regulation(s) affected | Nature of the special permits thereof
11379-M | ZF Passive Safety Systems US Inc | 173.301(a), 173.302(a)(1) | To modify the special permit to authorize a reduced frequency of cylinder burst testing.
20418-M | Hanwha Cimarron LLC | 173.302(a) | To modify the special permit to remove the 49 CFR Part 451 requirement in paragraph 7.d.(3).
21431-N | Philips Medical Systems MR, Inc |  | To authorize the transportation in commerce of MRI scanners utilizing the newly adopted provisions of the ICAO TI prior to their incorporation into the HMR.
21448-N | ExxonMobil Chemical Company | 180.605(h)(3) | To authorize the transportation in commerce of portable tanks that have been pneumatically tested with nitrogen in lieu of hydrostatically tested with water.
20534-R | Energy Transport Solutions LLC | 172.101(i)(3) | To renew authorization for the transportation in commerce of methane, refrigerated liquid in DOT specification 113C120W tank cars.

Special Permits Data—Withdrawn
Application No. | Applicant | Regulation(s) affected | Nature of the special permits thereof
20965-N | Autoliv Asp, Inc | 173.166 | To authorize the transportation in commerce of air bag inflators installed in apparel as “safety devices“.
21373-M | Sigma-Aldrich Co. LLC | 172.203(a), 172.203(c), 172.704 | To modify the special permit to authorize carriage by the grantee.
21511-N | Silk Way West Airlines, LLC | 172.101(j), 173.27(b)(2) | To authorize the transportation of certain hazardous materials forbidden aboard cargo-only aircraft.

[FR Doc. 2023-08590 Filed 4-21-23; 8:45 am]

BILLING CODE P